DEPARTMENT OF TREASURY

Internal Revenue Service

Announcement of Open Membership Application Period for the Information Reporting Program Advisory Committee

AGENCY: Internal Revenue Service (IRS), Treasury.

ACTION: Announcement of Open Membership Application Period for the Information Reporting Program Advisory Committee.

SUMMARY: In 1991 the Internal Revenue Service (IRS) established the Information Reporting Program Advisory Committee (IRPAC) at the request of the United States Congress. The primary purpose of IRPAC is to provide an organized public forum for discussion of relevant information reporting issues between officials of the IRS and representatives of the payer/ practitioner community. IRPAC offers constructive observations about current or proposed policies, programs, and procedures, and when necessary, suggests ways to improve the operation of the Information Reporting Program (IRP). IRPAC is currently comprised of representatives from various segments of the private-sector payer/practitioner community. About half of the appointments to IRPAC will expire at the end of this year. Additional members will be selected for two-year terms beginning in January next year. The IRS is interested in representation from different areas of the payer/practitioner community.

SUPPLEMENTARY INFORMATION: IRPAC currently reports to the National Director, Office of Specialty Taxes, who is the executive responsible for ensuring and facilitating compliance by payers with information reporting requirements. IRPAC is instrumental in providing advice to enhance the IRP Program. Increasing participation by external stakeholders in the planning and improvement of the tax system will help achieve the goals of increasing voluntary compliance, reducing burden, and improving customer service. IRPAC members are not paid for their time or services, but consistent with Federal regulations, they are reimbursed for their travel and lodging expenses to attend one orientation meeting and two public meetings each year. IRPAC members are expected to attend and pay their own way to four working sessions each year, which are generally held in Washington, DC. Occasionally, some of these working sessions may be held outside of the Metropolitan Washington, DC area.

Anyone wishing to be considered for membership on IRPAC should so advise the IRS by the required deadline. Please complete the following application questionnaire (or a facsimile thereof prepared on a word processor), and forward it to Ms. Kate LaBuda of the Office of Payer Compliance, at the address below. Completed questionnaires should not be submitted by e-mail.

ADDRESSES: Internal Revenue Service, OP:EX:ST:PC, 1111 Constitution Avenue, NW., Room 2013, Washington, DC 20224.

DATES: Completed questionnaires (or facsimiles) should be received by IRS no later than Friday, July 7, 2000. Questionnaires received after this date will not be considered. An acknowledgment letter will be sent.

FOR FURTHER INFORMATION CONTACT: To have a copy of the application questionnaire mailed, faxed, or e-mailed to you, please contact Ms. Gloria Wilson at gloria.w.wilson@irs.gov or at 202-622-4393 (not a toll-free number). For general information about the application process or IRPAC in general, contact Kate LaBuda at kate.labuda@irs.gov or at 202-622-3404 (not a toll-free number).

Approved: April 17, 2000.
Kate LaBuda,
Acting Director, Office of Payer Compliance.

Information Reporting Program Advisory Committee Membership Application Questionnaire

The following questions must be answered by anyone interested in becoming a member of the Information Reporting Program Advisory Committee (IRPAC). Applications (or facsimiles) must be received at the address listed below by July 7, 2000. Those received after this date will not be considered. All applications received will be acknowledged. Questions may be directed to Kate LaBuda at kate.labuda@irs.gov or at 202-622-3404.

Ms. Kate LaBuda, OP:EX:ST:PC, Internal Revenue Service, Room 2013, 1111 Constitution Avenue, N.W., Washington, DC 20224

1. Name:

2. Title:

3. Employer Name:

4. Business Address:

5. Business Phone:

6. Fax Number:

7. E-Mail Address:

8. If you are applying on behalf of an organization or association other than your employer, please state the name, and address of that organization. Also, provide a letter of reference from that organization stating that you are nominated on their behalf to represent them. This letter should contain the name of a contact and this contact's phone number.

9. Home Address:

10. Home Phone:

11. Have you ever served on IRPAC or any other IRS advisory committee such as the Commissioner's Advisory Group (CAG), the Internal Revenue Service Advisory Council (IRSAC), the Electronic Tax Administration Advisory Committee (ETAAC), or any other one? If so, please explain. Do you currently have an application pending for membership on any other IRS advisory committee?

12. Check the one segment of the IRP payer/practitioner community to which the organization that you represent, and your experience, most closely relate:

___ Real Estate

___ Transmitter/Forms Developer

___ Software Developer

___ Insurance: Property/Casualty

___ Insurance: Life/Health

___ Securities

___ Mutual Funds

___ Payroll

___ State & Local Government

___ Corporate Compliance

___ Small Business Compliance

___ Large Practitioners

___ Small Practitioners

___ Employee Plans

___ Trust Companies

___ Transfer Agents

___ Large Banks/Financial Institutions

___ Small Banks/Financial Institutions

___ International Banking

___ Other (Please specify.__________)

13. List the number of years of IRP-related experience you have, and specific sources of this IRP experience. (Please account for all years of IRP experience claimed.)

14. List any previous IRS or Treasury employment (please state position(s), title(s), and time in each position):

15. List educational and professional credentials (e.g., B.A., B.S., M.B.A., Ph.D., J.D., L.L.B., C.P.A., Enrolled Agent, etc.)

16. Identify organizations to which you belong and any relevant leadership positions you have held.

17. Please propose two topic ideas that you feel would be appropriate for discussion by IRPAC. Include a short description (three sentences) of each topic.

The following three items are required for an FBI name check.

18. Date of Birth:

19. Place of Birth:

20. Other names ever used:

The following items are required for an IRS tax check. (Please note that a tax check is not a tax audit.)

The Internal Revenue Service will perform the standard Federal Advisory Committee member tax check, (pursuant to 26 U.S.C. 6103; 5 U.S.C. 1303; Executive Orders 9397, 11222, 10450; CFR 5.2; 31 CFR Part O, Treasury Department Order Nos. 82 (Revised) and 150-87) and provide the information obtained to the Assistant Secretary (Administration) of the Treasury Department. The purpose of this tax check is to promote public confidence in the integrity of the Treasury Department and its administration of the Federal tax system. Your Social Security Number is required to identify your tax records accurately. This tax check must be completed prior to any appointment to this Federal Advisory Committee and you are now being asked to voluntarily provide the following information and, at a later time, you will be asked to sign a formal tax check waiver:

21. Social Security Number (SSN):

22. Spouse's name and SSN (if married and filing jointly):

The following item is required because of the Foreign Agents Registration Act (FARA), as amended:

23. Are you presently required to register as an agent of a foreign principal under FARA, as amended?

Note: Pursuant to 18 U.S.C. sec. 219, an individual who is required to register as an agent of a foreign principal under FARA is prohibited from serving on IRPAC. By executing this questionnaire, you agree that (1) if you are required to register as an agent of a foreign principal under the FARA before your term commences on IRPAC, you will terminate any and all such agencies prior to beginning your tenure and will provide appropriate verification therefor; and (2) you will immediately resign from IRPAC if you become such an agent at any time during your term.

Certification

24. I certify that, to the best of my knowledge and belief, all of my statements are true, correct, complete, and made in good faith. I also agree to the background checks set forth herein.

Signature

Date

[FR Doc. 00-10308 Filed 4-24-00; 8:45 am]

BILLING CODE 4830-01-P